DEPARTMENT OF ENERGY

Federal Energy Regulatory Commission

Combined Notice of Filings #1

Take notice that the Commission received the following electric rate filings:

Docket Numbers: ER10-1818-018.

Applicants: Public Service Company of Colorado.

Description: Supplement to January 11, 2019 Triennial MBR Update (Treatment of TRM/CBM in SIL Study) of Public Service Company of Colorado.

Filed Date: 9/17/19.

Accession Number: 20190917-5140.

Comments Due: 5 p.m. ET 10/8/19.

Docket Numbers: ER15-1456-008; ER10-2959-015; ER11-3859-019; ER19-967-002; ER15-748-005; ER16-999-009; ER11-4634-008; ER10-2934-014; ER19-968-002; ER18-920-004; ER17-436-007; ER14-1699-009; ER10-2615-013; ER11-2335-014; ER10-1933-006; ER15-1457-008; ER19-464-001.

Applicants: Beaver Falls, L.L.C., Chambers Cogeneration, Limited Partnership, Dighton Power, LLC, Fairless Energy, L.L.C., Garrison Energy Center LLC, Greenleaf Energy Unit 1 LLC, Hazleton Generation LLC, Logan Generating Company, L.P., Manchester Street, L.L.C., Marco DM Holdings, L.L.C., Marcus Hook Energy, L.P., Milford Power, LLC, Plum Point Energy Associates, LLC, Plum Point Services Company, LLC, RockGen Energy, LLC, Syracuse, L.L.C., Vermillion Power, L.L.C.

Description: Supplement to August 8, 2019 Notice of Change in Status of the SEG MBR Entities, et al.

Filed Date: 9/11/19.

Accession Number: 20190911-5143.

Comments Due: 5 p.m. ET 10/2/19.

Docket Numbers: ER17-802-006.

Applicants: Exelon Generation Company, LLC.

Description: Compliance filing: Informational Filing Regarding Mothballing of SE Chicago Energy Project Units to be effective N/A.

Filed Date: 9/18/19.

Accession Number: 20190918-5076.

Comments Due: 5 p.m. ET 10/9/19.

Docket Numbers: ER18-1266-002.

Applicants: Moxie Freedom LLC.

Description: Report Filing: Refund Report to be effective N/A.

Filed Date: 9/18/19.

Accession Number: 20190918-5125.

Comments Due: 5 p.m. ET 10/9/19.

Docket Numbers: ER19-470-002.

Applicants: ISO New England Inc., Eversource Energy Service Company.

Description: Compliance filing: Update Eff Date of Previously Filed Revisions Implementing Trans. Chrg Exemption to be effective 12/1/2019.

Filed Date: 9/18/19.

Accession Number: 20190918-5139.

Comments Due: 5 p.m. ET 10/9/19.

Docket Numbers: ER19-2276-001.

Applicants: New York Independent System Operator, Inc.

Description: Tariff Amendment: NYISO response to deficiency letter re: June 27, 2019 DER filing to be effective 5/1/2020.

Filed Date: 9/18/19.

Accession Number: 20190918-5138.

Comments Due: 5 p.m. ET 10/9/19.

Docket Numbers: ER19-2825-000.

Applicants: Southwest Power Pool, Inc.

Description: § 205(d) Rate Filing: Western Area Power Administration Contract Services Agreement Amendment to be effective 11/16/2019.

Filed Date: 9/17/19.

Accession Number: 20190917-5115.

Comments Due: 5 p.m. ET 10/8/19.

Docket Numbers: ER19-2826-000.

Applicants: PJM Interconnection, L.L.C.

Description: § 205(d) Rate Filing: Amendment to WMPA SA No. 5128, Queue No. AD1-156 to be effective 6/15/2018.

Filed Date: 9/17/19.

Accession Number: 20190917-5121.

Comments Due: 5 p.m. ET 10/8/19.

Docket Numbers: ER19-2827-000.

Applicants: Southwest Power Pool, Inc.

Description: § 205(d) Rate Filing: 2987R1 Associated Electric/PSC of OK/KAMO Electric Inter Agr to be effective 9/16/2019.

Filed Date: 9/18/19.

Accession Number: 20190918-5010.

Comments Due: 5 p.m. ET 10/9/19.

Docket Numbers: ER19-2828-000.

Applicants: AEP Ohio Transmission Company, Inc., Ohio Power Company, PJM Interconnection, L.L.C.

Description: § 205(d) Rate Filing: AEP Ohio submits Revised ILDSA, SA No. 1336 and 8 Facilities Agreements to be effective 8/21/2019.

Filed Date: 9/18/19.

Accession Number: 20190918-5059.

Comments Due: 5 p.m. ET 10/9/19.

Docket Numbers: ER19-2829-000.

Applicants: Phalanx Energy Services, LLC.

Description: Tariff Cancellation: Notice of Cancellation to be effective 9/19/2019.

Filed Date: 9/18/19.

Accession Number: 20190918-5075.

Comments Due: 5 p.m. ET 10/9/19.

Take notice that the Commission received the following electric securities filings:

Docket Numbers: ES19-55-000.

Applicants: ITC Great Plains, LLC.

Description: Application under Section 204 of the Federal Power Act for Authorization to Extend Maturity of Revolving Credit Facility of ITC Great Plains, LLC.

Filed Date: 9/18/19.

Accession Number: 20190918-5110.

Comments Due: 5 p.m. ET 10/9/19.

Docket Numbers: ES19-56-000.

Applicants: ITC Midwest LLC.

Description: Application under Section 204 of the Federal Power Act for Authorization to Extend Maturity of Revolving Credit Facility of ITC Midwest LLC.

Filed Date: 9/18/19.

Accession Number: 20190918-5113.

Comments Due: 5 p.m. ET 10/9/19.

Docket Numbers: ES19-57-000.

Applicants: International Transmission Company.

Description: Application under Section 204 of the Federal Power Act for Authorization to Extend Maturity of Revolving Credit Facility of International Transmission Company.

Filed Date: 9/18/19.

Accession Number: 20190918-5124.

Comments Due: 5 p.m. ET 10/9/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 18, 2019.
Nathaniel J. Davis, Sr.,
Deputy Secretary.

[FR Doc. 2019-20622 Filed 9-23-19; 8:45 am]

BILLING CODE 6717-01-P